DEPARTMENT OF ENERGY

Federal Energy Regulatory Commission

Notice of Staff Attendance at South Carolina Regional Transmission Planning Meeting

The Federal Energy Regulatory Commission (Commission) hereby gives notice that members of its staff may attend the meeting of the South Carolina Regional Planning (SCRTP) Stakeholder Group, as noted below. Their attendance is part of the Commission's ongoing outreach efforts.

SCRTP March 30, 2015 (10 a.m.-1 p.m.), Old Santee Canal Park, Interpretive Center—Canal Room, 900 Stony Landing Drive, Moncks Corner, SC 29461. The facility's phone number is (843) 899-5200.

The discussions may address matters at issue in the following proceedings:

Docket No. ER13-107, South Carolina Electric & Gas Company

Docket No. ER13-1935, South Carolina Electric & Gas Company

Docket No. ER13-1928, Duke Energy Carolinas/Carolina Power & Light

Docket No. ER13-1930, Louisville Gas & Electric Company/Kentucky Utilities

Docket No. ER13-1940, Ohio Valley Electric Corporation

Docket No. ER13-1941, Southern Companies

The meeting is open to the public.

For more information, contact Mike Lee, Office of Energy Market Regulation, Federal Energy Regulatory Commission at (202) 502-8658 or Michael.Lee@ferc.gov.

Dated: March 19, 2015.
Kimberly D. Bose,
Secretary.

[FR Doc. 2015-07141 Filed 3-27-15; 8:45 am]

BILLING CODE 6717-01-P